INTERNATIONAL TRADE COMMISSION

[USITC SE-10-011]

Government in the Sunshine Act Meeting Notice; Change of Time of Commission Meeting

Agency Holding the Meeting: United States International Trade Commission.

Original Date and Time: April 15, 2010 at 11 a.m.

New Date and Time: April 15, 2010 at 2:30 p.m.

Place: Room 101, 500 E Street SW., Washington, DC 20436, Telephone: (202) 205-2000.

Status: Open to the public.

In accordance with 19 CFR 201.37(a), the Commission has determined to reschedule the above referenced Commission meeting from 11 a.m. to 2:30 p.m. on April 15, 2010. Earlier announcement of this rescheduling was not possible.

Issued: April 13, 2010.
By order of the Commission.
William R. Bishop,
Hearings and Meetings Coordinator.

[FR Doc. 2010-8852 Filed 4-14-10; 11:15 am]

BILLING CODE 7020-02-P